DEPARTMENT OF TRANSPORTATION

Federal Highway Administration

Notice of Correction on the Notice of Final Federal Agency Actions on Proposed Kirby-Whitten Parkway (Shelby Farms Parkway) Project in Tennessee

AGENCY: Federal Highway Administration (FHWA), Department of Transportation (DOT).

ACTION: Notice; correction.

SUMMARY: The FHWA is correcting a notice published in the December 6, 2019, Federal Register entitled Notice of Final Federal Agency Actions on Proposed Kirby-Whitten Parkway (Shelby Farms Parkway) Project in Tennessee. This correction amends two sentences containing typographical errors in the Dates section of the notice.

FOR FURTHER INFORMATION CONTACT: For FHWA: Ms. Theresa Claxton; Program Development Team Leader; Federal Highway Administration; Tennessee Division Office; 404 BNA Drive, Building 200, Suite 508; Nashville, Tennessee 37217; Telephone (615) 781-5770; email: Theresa.Claxton@dot.gov. FHWA Tennessee Division Office's normal business hours are 7:30 a.m. to 4 p.m. (Central Time).

SUPPLEMENTARY INFORMATION:

Correction

In the Federal Register at 84 FR 66963 (December 6, 2019), please make the following corrections: In the DATES section, correct the second two sentences to read: A claim seeking judicial review of the Federal agency actions on the highway project will be barred unless the claim is filed on or before May 4, 2020. If the Federal law that authorizes judicial review of a claim provides a time period of less than 150 days for filing such claim, then that shorter time period still applies.

Issued on: December 11, 2019.
Pamela M. Kordenbrock,
Division Administrator, Nashville, Tennessee.

[FR Doc. 2019-27421 Filed 12-18-19; 8:45 am]

BILLING CODE 4910-RY-P